DEPARTMENT OF EDUCATION

[Docket No.: ED-2021-SCC-0158]

Agency Information Collection Activities; Comment Request; Mandatory Civil Rights Data Collection

AGENCY: Office for Civil Rights (OCR), Department of Education (ED).

ACTION: Notice.

SUMMARY: The U.S. Department of Education (ED) is issuing this notice to inform the public that Federal Register Notice (Docket ID Number ED-2021-SCC-0158; FR DOC #2021-25246), published on November 19, 2021, and entitled “Mandatory Civil Rights Data Collection” has been withdrawn as of December 13, 2021 and replaced with this notice, which includes replacement documents related to the information collection listed in this notice. In accordance with the Paperwork Reduction Act of 1995, ED is proposing a revision to an existing information collection.

DATES: Interested persons are invited to submit comments on or before February 11, 2022.

ADDRESSES: To access and review all the documents related to the information collection listed in this notice, please use http://www.regulations.gov by searching the Docket ID number ED-2021-SCC-0158. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of Strategic Collections and Clearance, Office of the Chief Data Officer, Office of Policy, Evaluation and Policy Development, U.S. Department of Education, 400 Maryland Avenue SW, LBJ, Room 6W201, Washington, DC 20202-8240.

FOR FURTHER INFORMATION CONTACT: For specific questions related to the collection activities, please contact Rosa Olmeda at Rosa.Olmeda@ed.gov or (202) 245-7264.

SUPPLEMENTARY INFORMATION: The U.S. Department of Education, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Mandatory Civil Rights Data Collection.

OMB Control Number: 1870-0504.

Type of Review: A revision of an existing information collection.

Respondents/Affected Public: State, Local, or Tribal Governments.

Total Estimated Number of Annual Responses: 17,884.

Total Estimated Number of Annual Burden Hours: 2,175,866.

Abstract:

The collection, use, and reporting of education data is an integral component of the mission of the U.S. Department of Education. ED has collected civil rights data about the nation's public schools via the Civil Rights Data Collection (CRDC) since 1968. For school years 2009-10 and 2011-12, the Office of Management and Budget (OMB) approved the CRDC part of the EDFacts information collection (1875-0240). EDFacts, an ED initiative to put performance data at the center of ED's policy, management, and budget decision-making processes for all preschool-grade 12 education programs, has transformed the way in which ED collects and uses data. For school years 2013-14, 2015-16, 2017-18, and 2020-21, the Office for Civil Rights cleared the CRDC as a separate collection from EDFacts while maintaining its transformative data collection policies and practices. As with previous CRDC collections, the purpose of the 2021-22 CRDC is to obtain vital data related to the civil rights laws' requirement that public local educational agencies (LEAs) and elementary and secondary schools provide equal educational opportunity. ED has analyzed the uses of many data elements collected in the 2015-16 and 2017-18 CRDCs and sought advice from experts across ED to refine, improve, and where appropriate, add or remove data elements from the collection. ED also made the CRDC data definitions and metrics consistent with other mandatory collections across ED wherever possible. ED seeks OMB approval under the Paperwork Reduction Act to collect from LEAs the elementary and secondary education data described in the sections of Attachment A. In addition to reviewing and commenting on the proposed changes (detailed in Supporting Statement A and Attachments A-1, A-2, A-3, and A-4), ED requests that LEAs and other stakeholders respond to the directed questions found in Attachment A-5.

Dated: December 8, 2021.
Stephanie Valentine,
PRA Coordinator, Strategic Collections and Clearance, Governance and Strategy Division, Office of the Chief Data Officer, Office of Planning, Evaluation and Policy Development.

[FR Doc. 2021-26873 Filed 12-10-21; 8:45 am]

BILLING CODE 4000-01-P